NATIONAL AERONAUTICS AND SPACE ADMINISTRATION

[Notice 07-044]

Government-Owned Inventions, Available for Licensing

AGENCY: National Aeronautics and Space Administration.

ACTION: Notice of availability of inventions for licensing.

SUMMARY: The invention listed below is assigned to the National Aeronautics and Space Administration, is the subject of a patent application that has been filed in the United States Patent and Trademark office, and is available for licensing.

DATES: May 29, 2007.

FOR FURTHER INFORMATION CONTACT: Mark W. Homer, Patent Counsel, NASA Management Office—JPL, 4800 Oak Grove Drive, Mail Stop 180-200, Pasadena, CA 91109; telephone (818) 354-7770.

NASA Case No. NPO-42965-1: Optical Device, System, And Method Of Generating High Angular Momentum Beams;

NASA Case No. NPO-43524-1: Accelerator System And Method Of Accelerating Particles;

NASA Case No. DRC-006-045: Method For Reducing The Refresh Rate Of Fiber Bragg Grating Sensors.

Dated: May 21, 2007.
Keith T. Sefton,
Deputy General Counsel, Administration and Management.

[FR Doc. E7-10169 Filed 5-25-07; 8:45 am]

BILLING CODE 7510-13-P